OFFICE OF THE UNITED STATES TRADE REPRESENTATIVE

Notice of Establishment and Request for Nominations for the Seasonal and Perishable Agricultural Products Advisory Committee

AGENCY: Office of the United States Trade Representative.

ACTION: Notice and request for applications.

SUMMARY: The Office of the United States Trade Representative (USTR) and the U.S. Department of Agriculture (USDA) have established a new trade advisory committee known as the Seasonal and Perishable Agricultural Products Advisory Committee (Committee) to provide advice and recommendations to the U.S. Trade Representative and the Secretary of Agriculture in connection with U.S. trade policy that concerns administrative actions and legislation that would promote the competitiveness of Southeastern U.S. producers of seasonal and perishable agricultural products. USTR is accepting applications from qualified individuals interested in serving a four year term as a Committee member.

DATES: USTR will accept nominations on a rolling basis for Committee membership for an initial four-year charter term.

FOR FURTHER INFORMATION CONTACT: Anthony Reyes at MBX.USTR.IAPE@USTR.EOP.GOV or 202-881-4804.

SUPPLEMENTARY INFORMATION:

1. Background

Section 135(c) of the Trade Act of 1974, as amended (19 U.S.C. 2155(c)), authorizes the President to establish appropriate sectoral or functional trade advisory committees. The President delegated that authority to the U.S. Trade Representative in Executive Order 11846, section 4(d), issued on March 27, 1975.

Pursuant to this authority, the U.S Trade Representative, jointly with the Secretary of Agriculture, established the Committee to provide advice and recommendations to them on trade policy and development matters that have a significant relationship to administrative actions and legislation that would promote the competitiveness of Southeastern U.S. producers of seasonal and perishable agricultural products.

The Committee meets as needed in person or by virtual or telephone conference, generally four times per year, at the call either of the U.S. Trade Representative and the Secretary of Agriculture or their designee, depending on various factors such as the level of activity of trade negotiations and the needs of the U.S. Trade Representative and the Secretary of Agriculture.

II. Membership

The U.S. Trade Representative and Secretary of Agriculture jointly appoint up to 25 members who represent the views and interests of Southeast U.S. producers of seasonal and perishable agricultural products. In addition to general trade, investment, and development issues, members must have expertise in areas such as:

• growing and selling seasonal and perishable fruits and vegetables.

• understanding the needs and market dynamics affecting producers of seasonal and perishable fruits and vegetables in the Southeastern United States.

• understanding the existing state and federal support programs and resources for producers of seasonal and perishable fruits and vegetables.

• developing and presenting actionable recommendations to U.S. government officials.

To ensure that the Committee is broadly representative, USTR and USDA will consider qualified representatives of key sectors and groups of the economy with an interest in seasonal and perishable produce within the Southeastern United States. Fostering diversity, equity, inclusion and accessibility (DEIA) is one of the top priorities.

The U.S. Trade Representative and the Secretary of Agriculture appoint members jointly and members serve at their discretion. Members serve for a term of up to four years or until the Committee is scheduled to expire. The U.S. Trade Representative and the Secretary of Agriculture may reappoint individuals for any number of terms.

The U.S. Trade Representative and the Secretary of Agriculture are committed to a trade agenda that advances racial equity and supports underserved communities and will seek advice and recommendations on trade policies that eliminate social and economic structural barriers to equality and economic opportunity, and to better understand the projected impact of proposed trade policies on communities of color and underserved communities. USTR and USDA strongly encourage diverse backgrounds and perspectives and makes appointments to the Committee without regard to political affiliation and in accordance with equal opportunity practices that promote diversity, equity, inclusion, and accessibility. USTR and USDA strive to ensure balance in terms of sectors, demographics, and other factors relevant to USTR's needs.

Committee members serve without either compensation or reimbursement of expenses. Members are responsible for all expenses they incur to attend meetings or otherwise participate in Committee activities. Committee members must be able to obtain and maintain a security clearance in order to serve and have access to classified and trade sensitive documents. They must meet the eligibility requirements at the time of appointment and at all times during their term of service.

Committee members are appointed to represent their sponsoring U.S. entity's interests on U.S. trade policy that affects the competitiveness of Southeastern U.S. producers of seasonal and perishable agricultural products, and thus the foremost consideration for applicants is their ability to carry out the goals of section 135(c) of the Trade Act of 1974, as amended. Other criteria include the applicant's knowledge of and expertise in international trade issues as relevant to the work of the Committee, USTR and USDA. USTR anticipates that almost all Committee members will serve in a representative capacity with a limited number serving in an individual capacity as subject matter experts. These members, known as special government employees, are subject to conflict of interest rules and may have to complete a financial disclosure report.

III. Request for Nominations

USTR is soliciting nominations for membership on the Committee. To apply for membership, an applicant must meet the following eligibility criteria at the time of application and at all times during their term of service as a Committee member:

1. The person must be a U.S. citizen.

2. The person cannot be a full-time employee of a U.S. governmental entity.

3. If serving in an individual capacity, the person cannot be a federally registered lobbyist.

4. The person cannot be registered with the U.S. Department of Justice under the Foreign Agents Registration Act.

5. The person must be able to obtain and maintain a security clearance.

6. For representative members, who will comprise almost all of the Committee, the person must represent a U.S. organization whose members (or funders) have a demonstrated interest in issues relevant to agricultural trade or have personal experience or expertise in agricultural trade.

7. For eligibility purposes, a “U.S. organization” is an organization established under the laws of the United States, that is controlled by U.S. citizens, by another U.S. organization (or organizations), or by a U.S. entity (or entities), determined based on its board of directors (or comparable governing body), membership, and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

8. For members who will serve in an individual capacity, the person must possess subject matter expertise regarding international trade issues.

In order to be considered for Committee membership, interested persons should submit the following to the Office of Intergovernmental Affairs and Public Engagement at MBX.USTR.IAPE@USTR.EOP.GOV:

• Name, title, affiliation, and contact information of the individual requesting consideration.

• If applicable, a sponsor letter on the organization's letterhead containing a brief description of the manner in which international trade affects the organization and why USTR should consider the applicant for membership.

• The applicant's personal resume.

• An affirmative statement that the applicant and the organization they represent meet all eligibility requirements.

USTR will consider applicants who meet the eligibility criteria in accordance with equal opportunity practices that promote diversity, equity, inclusion, and accessibility, based on the following factors:

• Ability to represent the sponsoring U.S. entity's or U.S. organization's and its subsector's interests on trade matters.

• Knowledge of and experience in U.S. trade policy that affects the competitiveness of Southeastern U.S. producers of seasonal and perishable agricultural products trade and environmental matters, as described in more detail in Part II above, that is relevant to the work of the Committee, USTR and USDA.

• How they will contribute to trade policies that eliminate social and economic structural barriers to equality and economic opportunity and to understanding of the projected impact of proposed trade policies on communities of color and underserved communities.

• Ensuring that the Committee is balanced in terms of points of view, demographics, geography, and entity or organization size.

Roberto Soberanis,
Assistant U.S. Trade Representative for Intergovernmental Affairs and Public Engagement, Office of the United States Trade Representative.

[FR Doc. 2024-07953 Filed 4-15-24; 8:45 am]

BILLING CODE 3390-F4-P